DEPARTMENT OF JUSTICE

Office of Justice Programs

[OMB Number: 1121-0312]

Agency Information Collection Activities: Reinstatement, With Change, of a Previously Approved Collection for Which Approval has Expired; Comments Requested

ACTION: 30-Day Notice of Information Collection Under Review: Survey of State Criminal History Information Systems.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. This proposed information was previously published in the Federal Register Volume 75, Number 163, page 52099, on August 24, 2010, allowing for a 60-day comment period.

The purpose of this notice is to allow for an additional 30 days for public comment until November 26, 2010. This process is conducted in accordance with 5 CFR 1320.10.

If you have comments especially on the estimated public burden or associated response time, suggestions, or need a copy of the proposed information collection instrument with instructions or additional information, please contact Devon Adams, Bureau of Justice Statistics, 810 Seventh St., NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) Title of the Form/Collection: Survey of State Criminal History Information Systems.

(3) Agency form number, if any, and the applicable component of the Department of Justice sponsoring the collection: Not applicable.

(4) Affected public who will be asked or required to respond, as well as a brief abstract: Primary: State Government. This information collection is a survey used to collect complete, comprehensive, and relevant data on the number and status of state-maintained criminal history records and on the increasing number of operations and services provided by state repositories.

(5) An estimate of the total number of respondents and the amount of time estimated for an average respondent to respond: It is estimated that 56 respondents will expend approximately 6.3 hours to complete the survey once every two years.

(6) An estimate of the total public burden (in hours) associated with the collection: There are an estimated 353 total annual burden hours associated with this collection.

If additional information is required contact: Lynn Murray, Department Clearance Officer, United States Department of Justice, Justice Management Division, Policy and Planning Staff, Two Constitution Square, 145 N Street, NE., Suite 2E-502, Washington, DC 20530.

Dated: October 21, 2010.
Lynn Murray,
Department Clearance Officer, PRA, U.S. Department of Justice.

[FR Doc. 2010-27107 Filed 10-26-10; 8:45 am]

BILLING CODE 4410-18-P